NUCLEAR REGULATORY COMMISSION

[NRC-2012-0283]

Biweekly Notice; Applications and Amendments to Facility Operating Licenses and Combined Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from November 1 to November 14, 2012. The last biweekly notice was published on November 13, 2012 (77 FR 67679).

ADDRESSES: You may access information and comment submissions related to this document, which the NRC possesses and is publicly available, by searching on http://www.regulations.gov under Docket ID NRC-2012-0283. You may submit comments by the following methods:

• Federal rulemaking Web site: Go to http://www.regulations.gov and search for Docket ID NRC-2012-0283. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2012-0283 when contacting the NRC about the availability of information regarding this document. You may access information related to this document, which the NRC possesses and is publicly available, by the following methods:

• Federal Rulemaking Web Site: Go to http://www.regulations.gov and search for Docket ID NRC-2012-0283.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2012-0283 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in section 50.92 of Title 10 of the Code of Federal Regulations (10 CFR), this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination; any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR part 2. Interested person(s) should consult a current copy of 10 CFR 2.309, which is available at the NRC's PDR, located at One White Flint North, Room O1-F21, 11555 Rockville Pike (first floor), Rockville, Maryland 20852. NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital information (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the following three factors in 10 CFR 2.309(c)(1): (i) The information upon which the filing is based was not previously available; (ii) the information upon which the filing is based is materially different from information previously available; and (iii) the filing has been submitted in a timely fashion based on the availability of the subsequent information.

For further details with respect to this license amendment application, see the application for amendment, which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC PDR Reference staff at 1-800-397-4209, 301-415-4737, or by email to pdr.resource@nrc.gov.

Carolina Power and Light Company, et al., Docket No. 50-400, Shearon Harris Nuclear Power Plant (HNP), Unit 1, Wake and Chatham Counties, North Carolina

Date of amendment request: October 22, 2012.

Description of amendment request: The proposed amendment would modify Technical Specification (TS) requirements for missed surveillances in Surveillance Requirement (SR) 4.0.3 and TS SR 4.0.1 to address how a SR is met. The changes are consistent with the NRC-approved Industry/Technical Specification Task Force (TSTF) Standard Technical Specifications (STS) change TSTF-358 Revision 6, “Missed Surveillance Requirements.” The availability of this TS improvement was published in the Federal Register on September 28, 2001, as part of the consolidated line item improvement process.

Basis for proposed no significant hazards consideration determination: As required by 10 CFR 50.91(a), the licensee has provided its analysis of the issue of no significant hazards consideration, which is presented below:

1. Does the proposed change involve a significant increase in the probability or consequences of an accident previously evaluated?

Response: No.

The proposed change to incorporate the requirements of improved STS SR 3.0.1 into corresponding HNP TS SR 4.0.1, does not affect the design or operation of the plant. The proposed change involves revising the existing HNP TS to be consistent with NUREG-1431, Revision 4, to facilitate the incorporation of TSTF-358 into the TS. The proposed change involves no technical changes to the existing TS as it merely clarifies how SRs are met. As such, these changes are administrative in nature and do not affect initiators of analyzed events or assumed mitigation of accident or transient events. Therefore, the proposed change does not involve a significant increase in the probability or consequences of an accident previously evaluated.

2. Does the proposed change create the possibility of a new or different kind of accident from any accident previously evaluated?

Response: No.

The proposed change to incorporate the requirements of improved STS SR 3.0.1 into corresponding HNP TS SR 4.0.1, does not involve a physical alteration to the plant (no new or different type of equipment will be installed) or changes in methods governing normal plant operation. The proposed change revises the existing HNP TS to be consistent with NUREG-1431, Revision 4, to clarify how SRs are met and facilitates the incorporation of TSTF-358 for addressing missed surveillances. As such, the proposed change will not impose any new or different requirements or eliminate any existing requirements. Therefore, the proposed change does not create the possibility of a new or different kind of accident from any accident previously evaluated.

3. Does the change involve a significant reduction in the margin of safety?

Response: No.

The proposed change to incorporate the requirements of improved STS SR 3.0.1 into corresponding HNP TS SR 4.0.1, does not affect plant operation or safety analysis assumptions in any way. The change provides additional clarification on how a surveillance is met and facilitates the incorporation of TSTF-358 for addressing missed surveillances. The change is administrative in nature and does not affect the operation of safety-related systems, structures, or components. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David T. Conley, Manager—Senior Counsel—Legal Department, Progress Energy Service Company, LLC, Post Office Box 1551, Raleigh, North Carolina 27602.

NRC Acting Branch Chief: Jessie F. Quichocho.

Carolina Power and Light Company, Docket No. 50-261, H. B. Robinson Steam Electric Plant, Unit No. 2 (HBRSEP), Darlington County, South Carolina

Date of amendment request: September 6, 2012.

Description of amendment request: The proposed change will delete Function 14, SG [Steam Generator] Water Level—Low, Coincident with Steam Flow/Feedwater Flow Mismatch, from Technical Specifications Table 3.3.1-1, Reactor Protection System Instrumentation. The licensee has installed median signal selector (MSS) modules during the most recent refueling outage. The installation of MSS modules enables the feedwater control system design to meet the requirements of the Institute of Electrical and Electronics Engineers (IEEE)-279 “IEEE Standard Criteria for Protection Systems for Nuclear Power Generating Stations” related to the potential for adverse control and protection system interactions and eliminates the need for the SG Water Level—Low Coincident with Steam Flow/Feedwater Flow Mismatch Reactor Protection System reactor trip function to meet IEEE-279 criteria.

Basis for proposed no significant hazards consideration determination: As required by 10 CFR 50.91(a), the licensee has provided its analysis of the issue of no significant hazards consideration, which is presented below:

1. Does the proposed change involve a significant increase in the probability or consequences of an accident previously evaluated?

Response: No.

The initiating conditions and assumptions for accidents described in the Updated Final Safety Analyses Report remain as previously analyzed. The proposed change does not introduce a new accident initiator nor does it introduce changes to any existing accident initiators or scenarios described in the Updated Final Safety Analyses Report. The SG Water Level—Low, Coincident with Steam Flow/Feedwater Flow Mismatch reactor trip function is not credited for accident mitigation in any accident analyses described in the Updated Final Safety Analyses Report. The SG Water Level—Low, Coincident with Steam Flow/Feedwater Flow Mismatch reactor trip function was designed to meet the control and protection systems interaction criteria of IEEE-279. The MSS modules prevent adverse control and protection system interaction such that it replaces the need for the SG Water Level—Low, Coincident with Steam Flow/Feedwater Flow Mismatch reactor trip function to satisfy the IEEE-279 requirements. As such, the affected control and protection systems will continue to perform their required functions without adverse interaction, and maintain the capability to shut down the reactor when required on Low—Low Steam Generator water level. The ability to mitigate a loss of heat sink accident previously evaluated is unaffected.

Based on the above, the proposed change does not involve a significant increase in the probability or consequences of an accident previously evaluated.

2. Does the proposed change create the possibility of a new or different kind of accident from any accident previously evaluated?

Response: No.

The substitution of the MSS modules for the SG Water Level—Low, Coincident with Steam Flow/Feedwater Flow Mismatch reactor trip function will not introduce any new failure modes to the required protection functions. The MSS modules only interact with the feedwater control system. The Steam Generator Water Level Low—Low protection function is not affected by this change. Isolation devices upstream of the MSS modules ensure that the Steam Generator Water Level Low—Low protection function is not affected. The MSS modules utilize highly reliable components in a configuration that relies on a minimum of additional equipment. Components used in the MSS modules are of a quality consistent with low failure rates and minimum maintenance requirements, and conform to protection system requirements. Furthermore, the design provides the capability for complete unit testing that provides determination of credible system failures. It is through these features that the overall design of the MSS modules minimizes the occurrence of undetected failures that may exist between test intervals.

Therefore, the proposed change does not create the possibility of a new or different kind of accident from any previously evaluated.

3. Does the change involve a significant reduction in the margin of safety?

Response: No.

The proposed amendment does not involve revisions to any safety analysis limits or safety system settings that will adversely impact plant safety. The proposed amendment does not alter the functional capabilities assumed in a safety analysis for any system, structure, or component important to the mitigation and control of design bases accident conditions within the facility. Nor does this amendment revise any parameters or operating restrictions that are assumptions of a design basis accident. In addition, the proposed amendment does not affect the ability of safety systems to ensure that the facility can be placed and maintained in a shutdown condition for extended periods of time.

The ability of the Steam Generator Water Level Low—Low reactor trip function credited in the safety analysis to protect against a sudden loss of heat sink event is not affected by the proposed change. Since the Steam Generator Low—Low Level trip is credited alone as providing complete protection for the accident transients that result in low steam generator level, eliminating the SG Water Level—Low, Coincident with Steam Flow/Feedwater Flow Mismatch reactor trip function will not change any safety analysis conclusion for any analyzed accident described in the Updated Final Safety Analyses Report.

The MSS modules prevent adverse control and protection system interaction such that it replaces the need for the SG Water Level—Low, Coincident with Steam Flow/Feedwater Flow Mismatch reactor trip function and satisfies the IEEE-279 requirements. The proposed change improves the margin of safety since removal of the SG Water Level—Low, Coincident with Steam Flow/Feedwater Flow Mismatch reactor trip function decreases the potential for challenges to plant safety systems. These changes result in a reduction in the potential for unnecessary plant transients.

The Technical Specifications continue to assure that the applicable operating parameters and systems are maintained within the design requirements and safety analysis assumptions. Therefore, the elimination of this trip function will not result in a significant reduction in the margin of safety as defined in the Updated Final Safety Analyses Report or Technical Specifications.

Therefore, the proposed change does not involve a significant reduction in any margin of safety.

The NRC staff has reviewed the licensee's analysis and, based on this review, it appears that the three standards of 10 CFR 50.92(c) are satisfied. Therefore, the NRC staff proposes to determine that the amendment request involves no significant hazards consideration.

Attorney for licensee: David T. Conley, Manager—Senior Counsel—Legal Department, Progress Energy Service Company, LLC, Post Office Box 1551, Raleigh, North Carolina 27602.

NRC Acting Branch Chief: Jessie F. Quichocho.

Entergy Nuclear Operations, Inc., Docket No. 50-255, Palisades Nuclear Plant, Van Buren County, Michigan

Date of amendment request: September 6, 2012.

Description of amendment request: The proposed amendment would modify Technical Specifications (TS) requirements for inoperable snubbers by adding limiting condition for operation (LCO) 3.0.8. The changes are consistent with Nuclear Regulatory Commission (NRC) approved Technical Specification Task Force (TSTF) Standard Technical Specifications (STS) change TSTF-372, Revision 4. The availability of this TS improvement was published in the Federal Register on May 4, 2005 (70 FR 23252), as part of the consolidated line item improvement process (CLIIP).

Basis for proposed no significant hazards consideration determination: The licensee has reviewed the proposed no significant hazards consideration determination published in the Federal Register as part of the CLIIP and has concluded that the proposed no significant hazards consideration determination presented in the Federal Register notice is applicable to Palisades Nuclear Plant. The analysis of the issue of no significant hazards consideration is presented below:

1. Does the proposed change involve a significant increase in the probability or consequences of an accident previously evaluated?

Response: No.

The proposed change allows a delay time before declaring supported TS systems inoperable when the associated snubber(s) cannot perform its required safety function. Entrance into Actions or delaying entrance into Actions is not an initiator of any accident previously evaluated. Consequently, the probability of an accident previously evaluated is not significantly increased. The consequences of an accident while relying on the delay time allowed before declaring a TS supported system inoperable and taking its Conditions and Required Actions are no different than the consequences of an accident under the same plant conditions while relying on the existing TS supported system Conditions and Required Actions. Therefore, the consequences of an accident previously evaluated are not significantly increased by this change. Therefore, this change does not involve a significant increase in the probability or consequences of an accident previously evaluated.

2. Does the proposed change create the possibility of a new or different kind of accident from any accident previously evaluated?

Response: No.

The proposed change allows a delay time before declaring supported TS systems inoperable when the associated snubber(s) cannot perform its required safety function. The proposed change does not involve a physical alteration of the plant (no new or different type of equipment will be installed) or a change in the methods governing normal plant operation. Thus, this change does not create the possibility of a new or different kind of accident from any accident previously evaluated.

3. Does the proposed change involve a significant reduction in a margin of safety?

Response: No.

The proposed change allows a delay time before declaring supported TS systems inoperable when the associated snubber(s) cannot perform its required safety function. The proposed change restores an allowance in the pre-ISTS [Improved Standard Technical Specifications] conversion TS that was unintentionally eliminated by the conversion. The pre-ISTS TS were considered to provide an adequate margin of safety for plant operation, as does the post-ISTS conversion TS. Therefore, this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William Dennis, Assistant General Counsel, Entergy Nuclear Operations, Inc., 440 Hamilton Ave., White Plains, NY 10601.

NRC Branch Chief: Robert Carlson.

Pacific Gas and Electric Company, Docket Nos. 50-275 and 50-323, Diablo Canyon Nuclear Power Plant, Unit Nos. 1 and 2, San Luis Obispo County, California

Date of amendment request: September 12, 2012.

Description of amendment request: The proposed amendments would revise Technical Specification (TS) 5.5.7, “Reactor Coolant Pump Flywheel Inspection Program,” to extend the reactor coolant pump (RCP) motor flywheel examination frequency from the currently approved 10-year examination frequency to an interval not to exceed 20 years, in accordance with NRC-approved Technical Specifications Task Force (TSTF) change traveler TSTF-421-A, Revision 0, “Revision to RCP Flywheel Inspection Program (WCAP-15666),” that has been approved generically for the Westinghouse Standard Technical Specifications (STSs), NUREG-1431.

A notice announcing the availability of this proposed TS change using the Consolidated Line Item Improvement Process was published in the Federal Register on October 22, 2003 (68 FR 60422). The TSTF-421 model safety evaluation, model no significant hazards consideration (NSHC) determination, and model license amendment request were published in the Federal Register on June 24, 2003 (68 FR 37590). In its letter dated September 12, 2012, the licensee affirmed the applicability of the model NSHC determination, which is presented below.

Basis for proposed no significant hazards consideration determination: As required by 10 CFR 50.91(a), an analysis of the issue of NSHC adopted by the licensee is presented below:

Criterion 1—The Proposed Change Does Not Involve a Significant Increase in the Probability or Consequences of an Accident Previously Evaluated.

The proposed change to the RCP flywheel examination frequency does not change the response of the plant to any accidents. The RCP will remain highly reliable and the proposed change will not result in a significant increase in the risk of plant operation. Given the extremely low failure probabilities for the RCP motor flywheel during normal and accident conditions, the extremely low probability of a loss-of-coolant accident (LOCA) with loss of offsite power (LOOP), and assuming a conditional core damage probability (CCDP) of 1.0 (complete failure of safety systems), the core damage frequency (CDF) and change in risk would still not exceed the NRC's acceptance guidelines contained in RG 1.174 (<1.0E-6 per year). Moreover, considering the uncertainties involved in this evaluation, the risk associated with the postulated failure of an RCP motor flywheel is significantly low. Even if all four RCP motor flywheels are considered in the bounding plant configuration case, the risk is still acceptably low.

The proposed change does not adversely affect accident initiators or precursors, nor alter the design assumptions, conditions, or configuration of the facility, or the manner in which the plant is operated and maintained; alter or prevent the ability of structures, systems, components (SSCs) from performing their intended function to mitigate the consequences of an initiating event within the assumed acceptance limits; or affect the source term, containment isolation, or radiological release assumptions used in evaluating the radiological consequences of an accident previously evaluated. Further, the proposed change does not increase the type or amount of radioactive effluent that may be released offsite, nor significantly increase individual or cumulative occupational/public radiation exposure. The proposed change is consistent with the safety analysis assumptions and resultant consequences. Therefore, the proposed change does not involve a significant increase in the probability or consequences of an accident previously evaluated.

Criterion 2—The Proposed Change Does Not Create the Possibility of a New or Different Kind of Accident From Any Accident Previously Evaluated

The proposed change in flywheel inspection frequency does not involve any change in the design or operation of the RCP. Nor does the change to examination frequency affect any existing accident scenarios, or create any new or different accident scenarios. Further, the change does not involve a physical alteration of the plant (i.e., no new or different type of equipment will be installed) or alter the methods governing normal plant operation. In addition, the change does not impose any new or different requirements or eliminate any existing requirements, and does not alter any assumptions made in the safety analysis. The proposed change is consistent with the safety analysis assumptions and current plant operating practice. Therefore, the proposed change does not create the possibility of a new or different kind of accident from any accident previously evaluated.

Criterion 3—The Proposed Change Does Not Involve a Significant Reduction in a Margin of Safety

The proposed change does not alter the manner in which safety limits, limiting safety system settings, or limiting conditions for operation are determined. The safety analysis acceptance criteria are not impacted by this change. The proposed change will not result in plant operation in a configuration outside of the design basis. The calculated impact on risk is insignificant and meets the acceptance criteria contained in RG 1.174. There are no significant mechanisms for inservice degradation of the RCP flywheel. Therefore, the proposed change does not involve a significant reduction in a margin of safety.

The NRC staff has reviewed the analysis adopted by the licensee and, based on this review, it appears that the three standards of 10 CFR 50.92(c) are satisfied. Therefore, the NRC staff proposes to determine that the amendment requests involve no significant hazards consideration.

Attorney for licensee: Jennifer Post, Esq., Pacific Gas and Electric Company, P.O. Box 7442, San Francisco, California 94120.

NRC Branch Chief: Michael T. Markley.

PPL Susquehanna, LLC, Docket Nos. 50-387 and 50-388, Susquehanna Steam Electric Station, Units 1 and 2, Luzerne County, Pennsylvania

Date of amendment request: September 18, 2012.

Description of amendment request: The proposed amendments would change Technical Specification (TS) Surveillance Requirements 3.8.1.9, 3.8.1.11, 3.8.1.12 and 3.8.1.19 in TS 3.8.1, “AC Sources-Operating.” Specifically, the proposed amendments will increase Diesel Generator (DG) acceptable minimum steady state voltage when operating in emergency/isochronous mode.

Basis for proposed no significant hazards consideration determination: As required by 10 CFR 50.91(a), the licensee has provided its analysis of the issue of no significant hazards consideration, which is presented below:

1. Does the proposed amendment involve a significant increase in the probability or consequences of an accident previously evaluated?

Response: No.

The proposed increase of the DG surveillance minimum steady state isochronous voltage does not adversely affect DGs or any other Systems Structures, and Components (SSCs) design function or an analysis that verifies the capability of an SSC to perform its design function. Implementation of the proposed change does neither involve physical work activity to the DGs, nor change the safety function of the diesel generators. This change only affects one of the surveillance criteria to determine acceptable steady state operation of the diesel following simulated or actual load rejection, Loss Of Offsite Power (LOOP), Emergency Core Cooling System (ECCS) initiation and LOOP in conjunction with ECCS signals. As such, the proposed amendment would not change any of the previously evaluated accidents in the FSAR [final safety analysis report]. The DG capability to provide highly reliable and self-contained source of power, in the event of a complete loss of offsite power to the associated 4.16kV bus, for the electrical loads required for a simultaneous shutdown of both reactors remains unaffected. Affected SSCs, operating procedures, and administrative controls do not have the function of preventing or mitigating any of the accidents as described in the FSAR.

The proposed amendment does not adversely affect current plant operation parameters. Therefore, the proposed amendment does not result in a significant increase in the probability or consequences of any previously evaluated accident.

2. Does the proposed amendment create the possibility of a new or different kind of, accident from any accident previously evaluated?

Response: No.

The proposed amendment will not adversely affect the design function or operation of the diesel generators as described in the FSAR. Implementation of this TS change will not require installation of new system component, construction activities, and performance of testing or maintenance that will affect the DGs operation or their ability to perform their design function. Changes in affected surveillance procedures have been made to increase the DG surveillance minimum steady state isochronous voltage from 3793 V to 4000V. This change represents only an increase in the minimum acceptable steady state isochronous voltage and does not affect steps performed within these procedures or any other plant document used to demonstrate DGs capability to perform their design function. Credible new failure mechanisms, malfunctions, or accident initiators not considered in the design and licensing bases of SSES [Susquehanna Steam Electric Station] would not be added by the proposed amendment. As such, the proposed change would not create the possibility of a new or different kind of accident.

Therefore, the proposed change does not create the possibility of a new or different kind of accident from any previously evaluated.

3. Does the proposed amendment involve a significant reduction in a margin of safety?

Response: No.

The proposed increase of the DG surveillance minimum steady state isochronous voltage would only adjust minimum acceptable steady state voltage since DGs surveillances historical data have shown minimum steady state voltage above 3793V. This TS change will tighten DGs surveillance steady state voltage acceptable band and lessen the potential adverse effect on degraded grid relays operation. As such, it would represent a conservative increase of the DG surveillance minimum steady state voltage when operating in isochronous (emergency) mode. No changes to the DG surveillance maximum steady state voltage or its surveillance requirements when operating in test (droop) mode will be implemented as part of this proposed amendment.

PPL Susquehanna, LLC operation safety margin is established and maintained through the design of its SSCs, parameters of operation, and component actuation setpoints. The proposed change does not exceed or alter an existing design basis or safety limit as established in the FSAR or the license. Thus, it does not significantly reduce previously existing safety margin.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Bryan A. Snapp, Esquire, Assoc. General Counsel, PPL Services Corporation, 2 North Ninth St., GENTW3, Allentown, PA 18101-1179.

NRC Branch Chief: Meena K. Khanna.

PPL Susquehanna, LLC, Docket Nos. 50-387 and 50-388, Susquehanna Steam Electric Station, Units 1 and 2, Luzerne County, Pennsylvania

Date of amendment request: September 18, 2012.

Description of amendment request: The proposed amendments would change Surveillance Requirements 3.8.1.19 in Technical Specification (TS) 3.8.1, “AC Sources-Operating.” Specifically, the proposed amendments will increase the minimum steady state frequency for Diesel Generator E during the loss of offsite power (LOOP) & Emergency Core Cooling System surveillance.

Basis for proposed no significant hazards consideration determination: As required by 10 CFR 50.91(a), the licensee has provided its analysis of the issue of no significant hazards consideration, which is presented below:

1. Do the proposed changes involve a significant increase in the probability or consequences of an accident previously evaluated?

Response: No.

This LAR [license amendment request] proposes to provide more a restrictive minimum frequency requirement for Diesel Generator E during a LOCA [loss-of-coolant accident]/LOOP surveillance. The minimum steady state frequency would be changing from 2% to approximately 1% below nominal (60Hz).

This change has no influence on the probability or consequences of any accident previously evaluated. The minimum steady state frequency change does not affect the operation of Diesel Generator E or connected equipment. The change only affects the minimum allowable value for the steady state frequency and does not change the actual setting, which is the setting that protects the Diesel Generator loads.

This change does not affect the probability or consequences of an accident previously evaluated because the proposed change does not make a change to any accident initiator, initiating condition, or assumption. The proposed action does not involve physical changes to the Diesel Generator, nor does it change the safety function of the Diesel Generator.

The proposed TS revision involves no significant changes to the operation of any systems or components in normal or accident operating conditions and no changes to existing structures, systems, or components.

The proposed action does not change any other behavior or operation of any Diesel Generator, and, therefore, has no significant impact on reactor operation. It also has no significant impact on response to any perturbation of reactor operation including transients and accidents previously analyzed in the Final Safety Analysis Report (FSAR).

Therefore, the proposed amendment does not result in a significant increase in the probability or consequences of any previously evaluated accident.

2. Do the proposed changes create the possibility of a new or different kind of, accident from any accident previously evaluated?

Response: No.

The proposed increase in the minimum steady state frequency only affects the minimum allowable value, and not the steady state frequency setpoint.

The proposed minimum steady state frequency does not adversely affect the operation of any safety-related components or equipment. Since the proposed action does not involve hardware changes, significant changes to the operation of any systems or components, nor change to existing structures, systems, or components, there is no possibility that a new or different kind of accident is created.

The proposed change does not involve physical changes to Diesel Generator E, nor does it change the safety function of Diesel Generator E. The proposed change does not require any physical change or alteration of any existing plant equipment. No new or different equipment is being installed, and installed equipment is not being operated in a new or different manner. There is no alteration to the parameters within which the plant is normally operated. This change does not alter the manner in which equipment operation is initiated, nor will the functional demands on credited equipment be changed. No alterations in the procedures that ensure the plant remains within analyzed limits are being proposed, and no changes are being made to the procedures relied upon to respond to an off-normal event as described in the FSAR. As such, no new failure modes are being introduced. The change does not alter assumptions made in the safety analysis and licensing basis.

Therefore, the proposed changes do not create the possibility of a new or different kind of accident from any previously evaluated.

3. Do the proposed changes involve a significant reduction in a margin of safety?

Response: No.

The proposed increase in the minimum steady state frequency only affects the minimum allowable value, and not the actual steady state frequency nominal setpoint, which will remain at 60 Hz. The increase in the minimum steady state frequency is a change to increase conservatism.

The margin of safety is established through the design of the plant structures, systems, and components, the parameters within which the plant is operated, and the establishment of the setpoints for the actuation of equipment relied upon to respond to an event. The proposed change does not significantly impact the condition or performance of structures, systems, and components relied upon for accident mitigation. The proposed change does not reduce the margin of safety that exists in the present Technical Specifications or the Final Safety Analysis Report.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Bryan A. Snapp, Esquire, Assoc. General Counsel, PPL Services Corporation, 2 North Ninth St., GENTW3, Allentown, PA 18101-1179.

NRC Branch Chief: Meena K. Khanna.

Southern Nuclear Operating Company Docket Nos.: 52-025 and 52-026, Vogtle Electric Generating Plant (VEGP) Units 3 and 4, Burke County, Georgia

Date of amendment request: September 28, 2012.

Description of amendment request: The proposed change would amend Combined License Nos.: NPF-91 and NPF-92 for Vogtle Electric Generating Plant (VEGP) Units 3 and 4, respectively, by adding four non-Class 1E containment electrical penetration assemblies (EPAs). Containment EPAs are a passive extension of containment which provide the passage of the electric conductors through a single aperture in the nuclear containment structure, while providing a pressure barrier between the inside and the outside of the containment structure.

Basis for proposed no significant hazards consideration determination: As required by 10 CFR 50.91(a), the licensee has provided its analysis of the issue of no significant hazards consideration, which is presented below:

1. Does the proposed amendment involve a significant increase in the probability or consequences of an accident previously evaluated?

Response: No.

The additional containment EPAs are a passive extension of containment and provide a pathway for passage of non-Class 1E electrical conductors between the Auxiliary Building and Containment. The proposed containment EPAs are similar in form, fit and function to the current non-Class 1E containment EPAs. The maximum allowable leakage rate allowed by Technical Specifications is unchanged by this activity. The new EPAs will meet the same design function as current EPAs.

Therefore, the proposed activity does not involve a significant increase in the probability or consequences of an accident previously evaluated.

2. Does the proposed amendment create the possibility of a new or different kind of accident from any accident previously evaluated?

Response: No.

The proposed containment EPAs are similar in form, fit, and function to the current non-Class 1E containment EPAs. The new EPAs will meet the same design function as current EPAs. Because the new EPAs are virtually identical in design and function to the current EPAs, no new type of failure modes exist.

Therefore, the proposed change does not create the possibility of a new or different kind of accident from any accident previously evaluated.

3. Does the proposed amendment involve a significant reduction in a margin of safety?

Response: No.

The proposed containment EPAs are similar in form, fit and function to the current non-Class 1E containment EPAs. The additional EPAs are an engineered passive extension of containment, and, therefore, do not affect containment or its ability to perform its design function. The addition of the new EPAs does not exceed or alter a design basis or safety limit.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Mark E. Tonacci.

Tennessee Valley Authority, Docket Nos. 50-259, 50-260 and 50-296, Browns Ferry Nuclear Plant (BFN), Units 1, 2, and 3, Limestone County, Alabama

Date of amendment request: August 28, 2012 (TS-475).

Description of amendment request: The proposed amendment would allow the licensee to delete the references to Section XI of the American Society of Mechanical Engineers Code (ASME Code) and add references to the ASME Code Operation and Maintenance of Nuclear Power Plants to Section 5.5.6 to the Technical Specifications (TSs). More specifically, the revision will allow the application of a 25 percent extension of surveillance interval to the accelerated frequencies used in the Inservice Test (IST) program.

Basis for proposed no significant hazards consideration determination: As required by 10 CFR 50.91(a), the licensee has provided its analysis of the issue of no significant hazards consideration, which is presented below:

1. Does the proposed change involve a significant increase in the probability or consequences of an accident previously evaluated?

Response: No.

The proposed change revises BFN, Units 1, 2, and 3, TS 5.5.6, Inservice Testing Program, for consistency with the requirements of 10 CFR 50.55a(f)(4) for pumps and valves, which are classified as American Society of Mechanical Engineers (ASME) Code Class 1, Class 2, and Class 3. The proposed change incorporates revisions to the ASME Code that result in a net improvement in the measures for testing pumps and valves. The proposed change also includes an administrative change to include application of the allowances provided by TS Surveillance Requirement (SR) 3.0.2 for IST SR frequencies of 2 years or less.

The proposed change does not impact any accident initiators or analyzed events or assumed mitigation of accident or transient events. The proposed change does not involve the addition or removal of any equipment, or any design changes to the facility. Therefore, this proposed change does not represent a significant increase in the probability or consequences of an accident previously evaluated.

2. Does the proposed change create the possibility of a new or different kind of accident from any accident previously evaluated?

Response: No.

The proposed change revises BFN, Units 1, 2, and 3, TS 5.5.6, Inservice Testing Program, for consistency with the requirements of 10 CFR 50.55a(f)(4) for pumps and valves, which are classified as American Society of Mechanical Engineers (ASME) Code Class 1, Class 2, and Class 3. The proposed change incorporates revisions to the ASME Code that result in a net improvement in the measures for testing pumps and valves. The proposed change also includes an administrative change to include application of the allowances provided by TS Surveillance Requirement (SR) 3.0.2 for IST SR frequencies of 2 years or less.

The proposed change does not involve a modification to the physical configuration of the plant (i.e., no new equipment will be installed) or change in the methods governing normal plant operation. The proposed change will not impose any new or different requirements or introduce a new accident initiator, accident precursor, or malfunction mechanism. Additionally, there is no change in the types or increases in the amounts of any effluent that may be released off-site, and there is no increase in individual or cumulative occupational exposure. Therefore, this proposed change does not create the possibility of an accident of a different kind than previously evaluated.

3. Does the proposed change involve a significant reduction in a margin of safety?

Response: No.

The proposed change revises BFN, Units 1, 2, and 3, TS 5.5.6, Inservice Testing Program, for consistency with the requirements of 10 CFR 50.55a(f)(4) for pumps and valves, which are classified as American Society of Mechanical Engineers (ASME) Code Class 1, Class 2, and Class 3. The proposed change incorporates revisions to the ASME Code that result in a net improvement in the measures for testing pumps and valves. The proposed change also includes an administrative change to include application of the allowances provided by TS Surveillance Requirement (SR) 3.0.2 for IST SR frequencies of 2 years or less. The safety function of the affected pumps and valves are maintained. Therefore, this proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Acting Branch Chief: Jessie F. Quichocho.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the Commission's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Entergy Nuclear Operations, Inc., Docket No. 50-293, Pilgrim Nuclear Power Station, Plymouth County, Massachusetts

Date of application for amendment: June 22, 2012. A publicly available version is available at ADAMS Accession No. ML12184A047.

Brief description of amendment: The amendment revised the Cyber Security Plan Implementation Schedule as approved in license amendment issued on July 20, 2011 (ADAMS Accession No. ML11152A043).

Date of issuance: November 13, 2012.

Effective date: This license amendment is effective as of the date of its issuance and shall be implemented by December 31, 2012.

Amendment No.: 238.

Facility Operating License No. DPR-35: The amendment revised the License.

Date of initial notice in Federal Register: September 11, 2012 (77 FR 55870).

The Commission's related evaluation of the amendment is contained in a Safety Evaluation dated November 13, 2012.

No significant hazards consideration comments received: No.

Entergy Nuclear Vermont Yankee, LLC and Entergy Nuclear Operations, Inc., Docket No. 50-271, Vermont Yankee Nuclear Power Station, Vernon, Vermont

Date of application for amendment: July 2, 2012. A publicly available version is available at ADAMS Accession No. ML121910298.

Brief description of amendment: The amendments revised the Cyber Security Plan Implementation Schedule as approved in license amendment issued on July 20, 2011 (ADAMS Accession No. ML11152A013).

Date of Issuance: November 13, 2012.

Effective date: This license amendment is effective as of the date of its issuance and shall be implemented by December 31, 2012.

Amendment No.: 251.

Renewed Facility Operating License No. DPR-28: The amendment revised the License.

Date of initial notice in Federal Register: September 11, 2012 (77 FR 55870).

The Commission's related evaluation of this amendment is contained in a Safety Evaluation dated November 13, 2012.

No significant hazards consideration comments received: No.

Florida Power and Light Company, Docket Nos. 50-250 and 50-251, Turkey Point Nuclear Station (TPN), Unit Nos. 3 and 4, Miami-Dade County, Florida

Date of application for amendments: April 30, 2012, as supplemented by letters dated October 10 and 18, 2012.

Brief description of amendments: The amendments revised Technical Specification (TS) 6.8.4.j, “Steam Generator (SG) Program,” and TS 6.9.1.8, “Steam Generator Tube Inspection Report.” The changes establish permanent SG tube alternate repair criteria for tubing flaws located in the lower region of the tubesheet and accompanying inspection and reporting requirements. The alternate repair criteria replace previous temporary alternate repair criteria and accompanying inspection and reporting requirements for TPN Unit Nos. 3 and 4.

Date of issuance: November 5, 2012.

Effective date: As of the date of issuance and shall be implemented prior to entering COLD SHUTDOWN conditions for refueling outage 27.

Amendment Nos.: Unit No. 3-254 and Unit No. 4-250.

Renewed Facility Operating License Nos. DPR-31 and DPR-41: Amendments revised the TSs.

Date of initial notice in Federal Register: August 7, 2012 (77 FR 47126). The supplements dated October 10 and 18, 2012, provided additional information that clarified the application, did not expand the scope of the application as originally noticed, and did not change the NRC staff's original proposed no significant hazards consideration determination as published in the Federal Register.

The Commission's related evaluation of the amendments is contained in a Safety Evaluation dated November 5, 2012.

No significant hazards consideration comments received: No.

Florida Power and Light Company, Docket Nos. 50-250 and 50-251, Turkey Point Nuclear Station, Unit Nos. 3 and 4, Miami-Dade County, Florida

Date of application for amendments: July 16, 2012, as supplemented by letter dated August 10, 2012.

Brief description of amendments: The amendments revised Technical Specification (TS) ¾.4.5, “Steam Generator (SG) Tube Integrity,” TS 6.8.4.j, “Steam Generator (SG) Program,” and TS 6.9.1.8, “Steam Generator Tube Inspection Report,” in accordance with TS Task Force Traveler (TSTF)-510, “Revision to Steam Generator Program Inspection Frequencies and Tube Sample Selection.”

Date of issuance: November 6, 2012.

Effective date: As of the date of issuance and shall be implemented within 7 days.

Amendment Nos.: Unit No. 3-255 and Unit No. 4-251.

Renewed Facility Operating License Nos. DPR-31 and DPR-41: Amendments revised the TSs.

Date of initial notice in Federal Register: September 4, 2012 (77 FR 53929).

The Commission's related evaluation of the amendments is contained in a Safety Evaluation dated November 6, 2012.

No significant hazards consideration comments received: No.

Florida Power and Light Company, Docket Nos. 50-250 and 50-251, Turkey Point Plant, Unit Nos. 3 and 4, Miami-Dade County, Florida

Date of application for amendments: August 7, 2012.

Brief description of amendments: The amendments modified Technical Specification (TS) 3.7.5, “Control Room Emergency Ventilation System.” The proposed TS change added a footnote that modifies system requirements for operations during MODES 5 and 6.

Date of issuance: November 5, 2012.

Effective date: As of the date of issuance and shall be implemented within 60 days of issuance.

Amendment Nos.: Unit No. 3-253 and Unit No. 4-249.

Renewed Facility Operating License Nos. DPR-31 and DPR-41: Amendments revised the TSs.

Date of initial notice in Federal Register: October 2, 2012 (77 FR 60151).

The Commission's related evaluation of the amendments is contained in a Safety Evaluation dated November 5, 2012.

No significant hazards consideration comments received: No.

Nebraska Public Power District, Docket No. 50-298, Cooper Nuclear Station, Nemaha County, Nebraska

Date of amendment request: May 30, 2012, as supplemented by letters dated October 3 and 31, 2012.

Brief description of amendment: The amendment modified Technical Specification (TS) Section 2.0, “Safety Limits,” by revising the two recirculation loop and single recirculation loop safety limit Minimum Critical Power Ratio (MCPR) values to reflect results of a cycle-specific calculation. Specifically, the amendment revised the safety limit in TS 2.1.1.2 by changing the value of MCPR for two-loop operation from ≥ 1.10 to ≥ 1.11 and the value of MCPR for single-loop operation from ≥ 1.12 to ≥ 1.13.

Date of issuance: November 9, 2012.

Effective date: As of the date of issuance and shall be implemented prior to startup from Refueling Outage RE27.

Amendment No.: 243.

Renewed Facility Operating License No. DPR-46: Amendment revised the Facility Operating License and Technical Specifications.

Date of initial notice in Federal Register: August 7, 2012 (77 FR 47127). It was re-noticed in the Federal Register on November 5, 2012 (77 FR 66489). The supplemental letters dated October 3 and 31, 2012, provided additional information that clarified the application, did not expand the scope of the application as originally noticed, and did not change the staff's original proposed no significant hazards consideration determination as published in the Federal Register. The second notice also provided an opportunity to request a hearing by January 4, 2013, but indicated that if the Commission makes a final no significant hazards consideration determination, any such hearing would take place after issuance of the amendment.

The Commission's related evaluation of the amendment and final determination of no significant hazards consideration are contained in a Safety Evaluation dated November 9, 2012.

No significant hazards consideration comments received: No.

NextEra Energy Seabrook, LLC, Docket No. 50-443, Seabrook Station, Unit No. 1, Rockingham County, New Hampshire

Date of amendment request: June 20, 2012.

Description of amendment request: The amendment revised the scope of the Cyber Security Plan Implementation Schedule Milestone #6 and the existing license condition in the facility operating license.

Date of issuance: November 2, 2012.

Effective date: As of its date of issuance and shall be implemented within 30 days.

Amendment No.: 132.

Facility Operating License No. NPF-86: The amendment revised the License.

Date of initial notice in Federal Register: August 14, 2012 (77 FR 48560).

The Commission's related evaluation of the amendment is contained in a Safety Evaluation dated November 2, 2012.

No significant hazards consideration comments received: No.

Southern Nuclear Operating Company, Inc. Docket Nos. 52-025 and 52-026, Vogtle Electric Generating Plant (VEGP) Units 3 and 4, Burke County, Georgia

Date of amendment request: February 14, 2012, and revised on March 12, 2012, and supplemented by letter dated August 9, 2012.

Brief description of amendment: The amendment revised the Vogtle Units 3 and 4 plant-specific design control document Figure 3.8.3-8, Sheet 1, Note 2 by revising the structural module shear stud size and spacing requirements.

Date of issuance: November 6, 2012.

Effective date: As of the date of issuance and shall be implemented within 30 days of issuance.

Amendment No.: Unit 3-3, and Unit 4-3.

Facility Combined Licenses No. NPF-91 and NPF-92: Amendment revised the Facility Combined Licenses.

Date of initial notice in Federal Register: April 17, 2012 (77 FR 22817).

The Commission's related evaluation of the amendment is contained in a Safety Evaluation dated November 6, 2012.

No significant hazards consideration comments received: No.

Dated at Rockville, Maryland, this 16th day of November 2012.
For the Nuclear Regulatory Commission.
Michele G. Evans,
Director, Division of Operating Reactor Licensing, Office of Nuclear Reactor Regulation.

[FR Doc. 2012-28566 Filed 11-23-12; 8:45 am]

BILLING CODE 7590-01-P